DEPARTMENT OF DEFENSE

Department of the Navy

[USN-2007-0026]

Privacy Act of 1974; System of Records

AGENCY: Department of the Navy, DoD.

ACTION: Notice to alter a system of records.

SUMMARY: The Department of the Navy is altering a system of records notice in its existing inventory of record systems subject to the Privacy Act of 1974, (5 U.S.C. 552a), as amended.

DATES: This proposed action will be effective without further notice on May 18, 2007 unless comments are received which result in a contrary determination.

ADDRESSES: Send comments to the Department of the Navy, PA/FOIA Policy Branch, Chief of Naval Operations (DNS-36), 2000 Navy Pentagon, Washington, DC 20350-2000.

FOR FURTHER INFORMATION CONTACT: Mrs. Doris Lama at (202) 685-6545.

SUPPLEMENTARY INFORMATION: The Department of the Navy systems of records notices subject to the Privacy Act of 1974, (5 U.S.C. 552a), as amended, have been published in the Federal Register and are available from the address above.

The proposed system report, as required by 5 U.S.C. 552a(r) of the Privacy Act of 1974, as amended, was submitted on April 6, 2007, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: April 11, 2007.
C.R. Choate,
Alternate OSD Federal Register Liaison Officer, Department of Defense.

N01740-1

System name:

Family Dependent Care Program (September 22, 2006 71 FR 55443).

Changes:

* * * * *

Categories of individuals covered by the system:

Delete entry and replace with “All Navy personnel serving on active duty or in the Ready Reserve who are single parents and who have primary or shared physical custody and who is married to and resides with an individual who is neither the natural or adoptive parent of the service member's minor child or children (i.e. step parent); service member whose minor children do not reside with the natural or adoptive parent or other person who has legal interest in the custody of the minor children; both members of a dual military couple where one or both have primary or shared physical custody of minor children; service members who are legally responsible for an adult family member who is incapable of providing for themselves in the absence of the service member; and family circumstances or other personal status changes in which the service member becomes legally and primarily responsible for the care of another person.

This system also covers members of the U.S. Marine Corps and Coast Guard when assigned to a Navy unit.”

Categories of records in the system:

Add “Social Security Number (SSN).”

* * * * *

Purpose(s):

Delete entry and replace with “To identify and ensure that single military members and military couples with dependents have made adequate dependent care arrangements; to ensure the member is worldwide assignable; to ensure combat readiness and document a plan for the care of family members in the event of a medium or long term absence; to evaluate compliance with DoD and Navy programs requiring Family Care Plans; and to ensure family members are cared for during deployments, reserve mobilizations, temporary duty, etc. and that arrangements are in place for the financial well being of family members covered by the Family Care Plan during separations.”

* * * * *

System manager(s) and address:

Delete “(N151)” and replace with “(N135)”.

* * * * *

N01740-1

System name:

Family Dependent Care Program.

System location:

Organizational elements of the Department of the Navy. Official mailing addresses are published in the Standard Navy Distribution List (SNDL) that is available at http://doni.daps.dla.mil/sndl.aspx.

Categories of individuals covered by the system:

All Navy personnel serving on active duty or in the Ready Reserve who are single parents and who have primary or shared physical custody and who is married to and resides with an individual who is neither the natural or adoptive parent of the service member's minor child or children (i.e. step parent); service member whose minor children do not reside with the natural or adoptive parent or other person who has legal interest in the custody of the minor children; both members of a dual military couple where one or both have primary or shared physical custody of minor children; service members who are legally responsible for an adult family member who is incapable of providing for themselves in the absence of the service member; and family circumstances or other personal status changes in which the service member becomes legally and primarily responsible for the care of another person.

This system also covers members of the U.S. Marine Corps and Coast Guard when assigned to a Navy unit.

Categories of records in the system:

Family Care Plan package which includes NAVPERS 1740/6—Family Care Plan Certificate, NAVPERS 1740/7—Family Care Plan Arrangements, Family Care Plan Checklist, Social Security Number (SSN), address, copies of powers of attorney, legal documents, allotment information, financial information, counseling forms, etc.

Authority for maintenance of the system:

10 U.S.C. 5013, Secretary of the Navy; OPNAVINST 1740.4C, U.S. Navy Family Care Policy and E.O. 9397 (SSN).

Purpose(s):

To identify and ensure that single military members and military couples with dependents have made adequate dependent care arrangements; to ensure the member is worldwide assignable; to ensure combat readiness and document a plan for the care of family members in the event of a medium or long term absence; to evaluate compliance with DoD and Navy programs requiring Family Care Plans; and to ensure family members are cared for during deployments, reserve mobilizations, temporary duty, etc. and that arrangements are in place for the financial well being of family members covered by the Family Care Plan during separations.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The DoD ‘Blanket Routine Uses’ that appear at the beginning of the Navy's compilation of systems of records notices apply to this system.

Policies and practices for storing, retrieving, accessing, retaining, and disposing of records in the system:

Storage:

Paper records in file folders and electronic storage media.

Retrievability:

Name and Social Security Number (SSN).

Safeguards:

Files are maintained in file cabinets under the control of authorized personnel during working hours; the office space in which the file cabinets are located is locked outside official working hours. Automated records are password protected.

Retention and disposal:

Records are maintained by the commanding officer or his designated representative for the period the individual is assigned to that organization. Records are updated annually or when family circumstances or other personal status changes. File follows member with each new assignment. Once affiliation with the Navy is complete, records are destroyed.

System manager(s) and address:

Policy Official: Director, Personal Readiness and Community Support (N135), Office of the Chief of Naval Personnel, 5720 Integrity Drive, Millington, TN 38055-6000.

Record Holder:

Commanding officer or designated representative of the naval activity where assigned. Official mailing addresses are published in the Standard Navy Distribution List (SNDL) that is available at http://doni.daps.dla.mil/sndl.aspx.

Notification procedure:

Individuals seeking to determine whether information about themselves is contained in this system of records should address written inquiries to the Commanding Officer of the activity where assigned. Official mailing addresses are published in the Standard Navy Distribution List (SNDL) that is available at http://doni.daps.dla.mil/sndl.aspx.

Requests should contain individual's full name, Social Security Number (SSN), dates assigned at that activity, and must be signed.

Record access procedures:

Individuals seeking access to information about themselves contained in this system of records should address written inquiries to the Commanding Officer of the activity where assigned. Official mailing addresses are published in the Standard Navy Distribution List (SNDL) that is available at http://doni.daps.dla.mil/sndl.aspx.

Requests should contain individual's full name, Social Security Number (SSN), dates assigned at that activity, and must be signed.

Contesting record procedures:

The Navy's rules for accessing records, and contesting contents, and appealing initial agency determinations are published in Secretary of the Navy Instruction 5211.5; 32 CFR part 701; or may be obtained from the system manager.

Record source categories:

The individual.

Exemptions claimed for the system:

None.

[FR Doc. E7-7361 Filed 4-17-07; 8:45 am]

BILLING CODE 5001-06-P